ENVIRONMENTAL PROTECTION AGENCY

[EPA-HQ-OPPT-2014-0068, 2014-0730, 2015-0081, 2015-0491; FRL-9929-31]

Availability of Work Plan Chemical Problem Formulation and Initial Assessment and Data Needs Assessment Documents for Flame Retardant Clusters; Notice and Public Comment Periods

AGENCY: Environmental Protection Agency (EPA).

ACTION: Notice.

SUMMARY: EPA is announcing the availability and opening of a 60-day public comment period for TSCA Work Plan Chemical problem formulation and initial assessment documents for three flame retardant clusters. EPA is also making available and opening a 120-day public comment period for the TSCA Work Plan Chemical data needs assessment document for the Brominated Phthalates flame retardant cluster. Based on experience in conducting TSCA Work Plan Chemical assessments and public input, starting in 2015 EPA will publish a problem formulation and initial assessment, or a data needs assessment, for each TSCA Work Plan assessment as a stand-alone document to facilitate public input prior to conducting further risk analysis. EPA believes publishing problem formulation and initial assessment documents for TSCA Work Plan assessments will increase transparency about EPA's thinking and analysis process, provide opportunity for the public to comment on EPA's approach, and give EPA the opportunity to receive additional information/data prior to EPA conducting detailed risk analysis and risk characterization. There are three clusters of flame retardant on the TSCA Work Plan for which there are problem formulation and initial assessment documents: Brominated Bisphenol A, Chlorinated Phosphate Esters, and Cyclic Aliphatic Bromides. In addition, there is a data needs assessment document for the Brominated Phthalates flame retardant cluster. There is a separate docket assigned to each TSCA Work Plan Chemical flame retardant cluster.

DATES: Comments on the three problem formulation and initial assessment documents (Brominated Bisphenol A (TBBPA), Chlorinated Phosphate Esters (CPE), and Cyclic Aliphatic Bromides (HBCD)) must be received on or before October 19, 2015. Comments on the data needs assessment document for Brominated Phthalates (TBB & TBPH) must be received on or before December 16, 2015.

ADDRESSES: Submit your comments, identified by docket identification (ID) number for the corresponding TSCA Work Plan chemicals as identified in this document, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Stanley Barone, Risk Assessment Division (7403M), Office of Pollution Prevention and Toxics, Environmental Protection Agency, 1200 Pennsylvania Ave. NW., Washington, DC 20460-0001; telephone number: (202) 564-1169; email address: barone.stan@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general, and may be of interest to a wide range of stakeholders including those interested in environmental and human health; the chemical industry; chemical users; consumer product companies and members of the public interested in the assessment of chemical risks. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

EPA is announcing the availability of and opening of a public comment period for three problem formulation and initial assessment documents, and a data needs assessment document, for the following TSCA Work Plan Chemicals: Brominated Bisphenol A; Chlorinated Phosphate Esters; Cyclic Aliphatic Bromides; and Brominated Phthalates flame retardant clusters. This Federal Register Notice identifies the individual Work Plan Chemical problem formulation and initial assessment documents and the data needs assessment document by title, docket ID number, and chemical or chemicals covered. Use the specific docket ID number provided in this Federal Register Notice to locate a copy of the chemical-specific document, as well as to submit comments via http://www.regulations.gov.

A. Docket ID Number EPA-HQ-OPPT-2015-0068

Title: TSCA Work Plan Chemical Problem Formulation and Initial Assessment: Chlorinated Phosphate Esters Cluster.

Chemicals covered: Ethanol, 2-chloro-, phosphate (3:1) (TCEP) (CASRN: 115-96-8); 2-Propanol, 1-chloro-, 2,2',2”-phosphate (TCPP) (CASRN: 13674-84-5); and 2-Propanol, 1,3-dichloro-, phosphate (3:1) (TDCPP) (CASRN: 13674-87-8).

Summary: Chlorinated phosphate esters are high production volume chemicals that have been used as flame retardants in furniture foams, textiles, paints and coatings. EPA initiated scoping and problem formulation to determine the feasibility of conducting a quantitative risk assessment. During problem formulation, EPA reviewed previous assessments by EPA and other organizations and additional published studies on the exposure and hazard for members of the CPE cluster. EPA examined likely exposure and hazard scenarios based on current production, use, and fate information to identify scenarios amenable to a risk analysis.

B. Docket ID Number EPA-HQ-OPPT-2015-0081

Title: TSCA Work Plan Chemical Problem Formulation and Initial Assessment: Cyclic Aliphatic Bromides Cluster.

Chemicals covered: Hexabromocyclododecane (HBCD, CASRN 25637-99-4); 1,2,5,6,9,10-Hexabromocyclododecane (CASRN 3194-55-6); and 1,2,5,6-Tetrabromocyclooctane (CASRN 3194-57-8).

Summary: Cyclic Aliphatic Bromides have been used as a flame retardant in: extruded and expanded polystyrene foams (EPS/XPS), polystyrene (PS) products, textiles, paints and coatings. EPA initiated scoping and problem formulation to determine the feasibility of conducting a quantitative risk assessment. During problem formulation, EPA reviewed previous assessments by EPA and other organizations and additional published studies on the exposure and hazard for members of this flame retardant cluster. EPA examined likely exposure and hazard scenarios based on current production, use, and fate information to identify scenarios amenable to a risk analysis. During problem formulation, EPA identified inhalation, dermal and lifetime exposure assessments as data gaps that add uncertainty to EPA's risk assessment of HBCD. EPA welcomes comment on addressing these data gaps.

C. Docket ID Number EPA-HQ-OPPT-2014-0730

Title: TSCA Work Plan Chemical Problem Formulation and Initial Assessment: Tetrabromobisphenol A and Related Chemicals Cluster.

Chemicals covered: Tetrabromobisphenol A (TBBPA, CASRN 79-94-7); TBBPA-bis(dibromopropyl ether) (CASRN 21850-44-2); TBBPA-bis(ally ether) (CASRN 25327-89-3); and TBBPA-bis(methyl ether) (CASRN 37853-61-5).

Summary: Tetrabromobisphenol A is a compound commonly used as a flame retardant in plastics/printed circuit boards for electronics and has been found in children's products and other consumer products. EPA initiated scoping and problem formulation to determine the feasibility of conducting a quantitative risk assessment. During problem formulation, EPA reviewed previous assessments by EPA and other organizations and additional published studies on the exposure and hazard for members of this flame retardant cluster. EPA examined likely exposure and hazard scenarios based on current production, use, and fate information to identify scenarios amenable to a risk analysis.

D. Docket ID Number EPA-HQ-OPPT-2014-0491

Title: TSCA Work Plan Chemical Problem Formulation and Data Needs Assessment: Brominated Phthalates Cluster.

Chemicals covered: 1,2-Benzenedicarboxylic acid, 3,4,5,6-tetrabromo-, 1,2-bis(2-ethylhexyl) ester (TBPH) (CASRN 26040-51-7); Benzoic acid, 2,3,4,5-tetrabromo-, 2-ethylhexyl ester (TBB) (CASRN: 183658-27-7); 1,2-Benzenedicarboxylic acid, 3,4,5,6-tetrabromo-, 1-[2-(2-hydroxyethoxy)ethyl] 2-(2-hydroxypropyl) ester (CASRN: 20566-35-2); 1,2-Benzene dicarboxylic acid, 3,4,5,6-tetrabromo-, mixed esters with diethylene glycol and propylene glycol (CASRN: 77098-07-8); 1,2-Benzenedicarboxylic acid, 1,2-bis(2,3-dibromopropyl) ester (CASRN: 7415-86-3); Chemical A—Chemical Identity claimed confidential by manufacturer; Chemical B—Chemical Identity claimed confidential by manufacturer.

Summary: The Brominated Phthalates Cluster is a group of seven chemicals at least two of which, TBB and TBPH, are found in commercial flame retardant formulations. During problem formulation, EPA reviewed previous assessments by EPA and other organizations and additional published studies on the exposure and hazard for members of the Brominated Phthalates Cluster. This review identified critical data gaps and uncertainties that limit EPA's ability to conduct a quantitative risk assessment for any of the chemicals in the Brominated Phthalates cluster. Specifically, the review identified numerous gaps in toxicity data and exposure data, testing conducted on limited commercial mixtures but not all constituents of the mixtures, and uncertain attribution of toxicity for commercial mixtures. As an initial step toward conducting a robust risk assessment, EPA is releasing a “Data Needs Assessment” for the Brominated Phthalates Cluster. This Data Needs Assessment is intended to guide the collection of additional data and information to fill the critical data gaps and reduce uncertainties identified during problem formulation.

If you have any questions about any of these problem formulation and initial assessment documents and the data needs assessment document, or the Agency's programs in general, please contact the person listed under FOR FURTHER INFORMATION CONTACT.

Authority: 15 U.S.C. 2601 et seq.

Dated: August 12, 2015.
Wendy C. Hamnett,
Director, Office of Pollution Prevention and Toxics.

[FR Doc. 2015-20370 Filed 8-17-15; 8:45 am]

BILLING CODE 6560-50-P